DEPARTMENT OF THE INTERIOR

Fish and Wildlife Service

[FWS-R1-R-2011-N225; 10137-8555-11RG-8H]

Long Range Transportation Plan for Fish and Wildlife Service Lands in Hawai`i, Idaho, Northern Nevada, Oregon, Washington, and the Pacific Island Territories; Correction

AGENCY: Fish and Wildlife Service, Interior.

ACTION: Notice of availability; request for comments.

SUMMARY: On October 18, 2011, via a Federal Register notice, we, the U.S. Fish and Wildlife Service, announced the availability of the final draft Long Range Transportation Plan (LRTP) for our lands in Hawai`i, Idaho, Northern Nevada, Oregon, Washington, and the Pacific Island Territories (the Service's Region 1) for public review and comment. However, in that notice we gave an incorrect contact phone number, which we now correct. Note that if you already submitted a comment, you need not resubmit it.

DATES: Please provide your comments by November 17, 2011.

ADDRESSES: The Draft LRTP is available on our Web site at http://www.fws.gov/pacific/planning/. We also have a limited number of printed and CD-ROM copies of the Draft LRTP. You may request a copy or submit comments by any of the following methods:

• E-mail: fw1LRTPComments@fws.gov.

• U.S. Mail: Jeff Holm, Regional Transportation Coordinator, U.S. Fish and Wildlife Service, 911 NE., 11th Avenue, Portland, OR 97232.

• Fax: Attn: Jeff Holm, (503) 231-2364.

• In-Person Viewing or Drop-off: During regular business hours to Jeff Holm, Regional Transportation Coordinator, U.S. Fish and Wildlife Service, 911 NE., 11th Avenue, Portland, OR 97232.

FOR FURTHER INFORMATION CONTACT: Jeff Holm, 503-231-2161.

SUPPLEMENTARY INFORMATION: On October 18, 2011, via a Federal Register notice (76 FR 64376), we announced the availability of the final draft Long Range Transportation Plan (LRTP) for public review and comment. However, in that notice, we gave an incorrect contact phone number under FOR FURTHER INFORMATION CONTACT. We now supply the correct phone number, which is 503-231-2161. Note that if you already submitted a comment, you need not resubmit it.

Before including your address, phone number, e-mail address, or other personal identifying information in your comment, you should be aware that your entire comment—including your personal identifying information—may be made publicly available at any time. While you can ask us in your comment to withhold your personal identifying information from public review, we cannot guarantee that we will be able to do so.

For more information about the Draft LRTP, and its mission, goals, and objectives, see our October 18, 2011, notice.

Dated: October 20, 2011.
Sara Prigan,
Federal Register Liaison.

[FR Doc. 2011-27666 Filed 10-25-11; 8:45 am]

BILLING CODE 4310-55-P